DEPARTMENT OF COMMERCE

National Oceanic and Atmospheric Administration

RIN 0648-XC161

Fisheries of the Caribbean, Gulf of Mexico, and South Atlantic; Gulf of Mexico Individual Fishing Quota Program Regulations

AGENCY: National Marine Fisheries Service (NMFS), National Oceanic and Atmospheric Administration (NOAA), Commerce.

ACTION: Notice of public meeting.

SUMMARY: NMFS, Southeast Region, will hold workshops to discuss administrative changes to the Gulf of Mexico Individual Fishing Quota (IFQ) programs. Workshops will be open to the public. Topics to be discussed during the workshops include: Ex-vessel price reporting, share and allocation price reporting, landing notification and landing transaction procedures, measures to enhance IFQ enforceability, offloading requirements, and other administrative changes.

DATES: The workshop dates are:

1. Wednesday, September 5, 2012, 6 p.m. to 8 p.m., Galveston, TX;

2. Tuesday, September 18, 2012, 6 p.m. to 8 p.m., Madeira Beach, FL; and

3. Wednesday, September 19, 2012, 6 p.m. to 8 p.m., Panama City, FL.

ADDRESSES: The workshop locations are:

1. Galveston—Holiday Inn, 5002 Seawall Boulevard, Galveston, TX;

2. Madeira Beach—City of Madeira Beach, 300 Municipal Drive, Madeira Beach, FL; and

3. Panama City—Courtyard Marriott, 905 East 23rd Place, Panama City, FL.

FOR FURTHER INFORMATION CONTACT: NMFS, Southeast Regional Office, IFQ Customer Service, phone: 866-425-7627; email: SER-IFQ.Support@noaa.gov.

SUPPLEMENTARY INFORMATION: The primary purpose of these workshops is to discuss potential changes to Gulf of Mexico IFQ programs. The red snapper IFQ program was implemented in 2007 and the grouper-tilefish IFQ program was implemented in 2010. During this time frame, NMFS has received input and comments from fishermen, dealers, and state and Federal law enforcement agents on potential administrative changes to the IFQ program. Additionally, price reporting problems associated with submission of ex-vessel, share, and allocation price data are hindering NMFS from fully evaluating the economic effects of the IFQ program. NMFS is seeking input from fishermen, dealers, and other constituents on ways to improve price reporting. NMFS is also seeking input on procedural changes to landing notifications, landing transactions, offloading requirements, and other measures intended to enhance IFQ enforcement. No management actions will be decided at the workshops. Constituents will be asked to provide recommendations for further consideration by NMFS.

Special Accomodations

This meeting is physically accessible by people with disabilities. Requests for information packets or other auxiliary equipment should be made at least 5 days prior to the meeting date (see FOR FURTHER INFORMATION CONTACT).

Authority: 16 U.S.C. 1801 et seq.

Dated: August 15, 2012.
Lindsay Fullenkamp,
Acting Deputy Director, Office of Sustainable Fisheries, National Marine Fisheries Service.

[FR Doc. 2012-20408 Filed 8-20-12; 8:45 am]

BILLING CODE 3510-22-P